FEDERAL COMMUNICATIONS COMMISSION

Notice of Public Information Collection(s) Being Reviewed by the Federal Communications Commission

September 8, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 20, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0624.

Title: Amendment of the Commission's Rules to Establish New Personal Communications Services—Section 24.103(f).

Form Number: N/A.

Type of Review: Extension of a currently approved collection.

Respondents: Individuals or households; business or other for-profit entities; not-for-profit institutions; and State, Local or Tribal Government.

Number of Respondents: 1,782.

Estimated Time Per Response: 15.1 hrs. (avg.).

Frequency of Response: 1, 5, or 10 yrs.

Total Annual Burden: 26,843 hrs.

Total Annual Cost: $0.

Needs and Uses: 47 CFR 24.103(f) requires narrowband PCS licensees to notify the Commission at specific benchmarks that systems are in compliance with construction requirements. Requirements were adopted to ensure that licensees quickly construct their systems and that the systems serve significant areas.

Federal Communications Commission.
Magalie Roman Salas,
Secretary.

[FR Doc. 00-23954 Filed 9-18-00; 8:45 am]

BILLING CODE 6712-01-U